DEPARTMENT OF HOMELAND SECURITY

Coast Guard

33 CFR Part 165

[Docket No. USCG-2012-0087]

Security Zone; Protection of Military Cargo, Captain of the Port Zone Puget Sound

AGENCY: Coast Guard, DHS.

ACTION: Notice of enforcement of regulation.

wbar;___

SUMMARY: The Coast Guard will enforce the Blair Waterway Security Zone in Commencement Bay, Tacoma, Washington from 6 a.m. on February 17, 2012, through 11:59 p.m. on February 21, 2012, unless cancelled sooner by the Captain of the Port. This action is necessary for the security of Department of Defense assets and military cargo in the navigable waters of Puget Sound and adjacent waters. During the enforcement period, this security zone will exclude persons and vessels from the immediate vicinity of these facilities during military cargo loading and unloading operations. In addition, the regulation establishes requirements for all vessels to obtain permission of the COTP or Designated Representative, including the Vessel Traffic Service (VTS), to enter, move within, or exit this security zone when they are enforced. Entry into this zone is prohibited unless otherwise exempted or excluded or unless authorized by the Captain of the Port or his Designated Representative.

DATES: The regulations in 33 CFR 165.1321 will be enforced from 6 a.m. on February 17, 2012, through 11:59 p.m. on February 21, 2012, unless cancelled sooner by the Captain of the Port.

FOR FURTHER INFORMATION CONTACT: If you have questions on this notice, call or email Ensign Anthony P. LaBoy, Sector Puget Sound Waterways Management Division, Coast Guard; telephone 206-217-6323, email SectorPugetSoundWWM@uscg.mil.

SUPPLEMENTARY INFORMATION: The Coast Guard will enforce the Blair Waterway Security Zone set forth in paragraph (c) (1) of 33 CFR 165.1321 on February 17, 2012 at 6 a.m. through 11:59 p.m. on February 21, 2012 unless cancelled sooner by the Captain of the Port or Designated Representative. Under the provisions of 33 CFR 165.1321, the Coast Guard published a final rule for the security of Department of Defense assets and military cargo in the navigable waters of Puget Sound and adjacent waters. The security zone will provide for the regulation of vessel traffic in the vicinity of military cargo loading facilities in the navigable waters of the United States. This security zone also excludes persons and vessels from the immediate vicinity of these facilities during military cargo loading and unloading operations. In addition, the regulation establishes requirements for all vessels to obtain permission of the COTP or Designated Representative, including the Vessel Traffic Service (VTS), to enter, move within, or exit this security zone when it is enforced. Entry into this zone is prohibited unless otherwise exempted or excluded under 33 CFR 165.1321 or unless authorized by the Captain of the Port or Designated Representative.

This notice is issued under authority of 33 CFR 165.1321 and 5 U.S.C. 552(a). In addition to this notice in the Federal Register, the Coast Guard will provide the maritime community with extensive advance notification of this enforcement period via the Local Notice to Mariners, marine information broadcasts, local radio stations and area newspapers.

If the COTP determines that the regulated area need not be enforced for the full duration stated in this notice, he may use a Broadcast Notice to Mariners to grant general permission to enter the regulated area.

Dated: February 8, 2012.
S.J. Ferguson,
Captain, U.S. Coast Guard, Captain of the Port, Puget Sound.

[FR Doc. 2012-3734 Filed 2-16-12; 8:45 am]

BILLING CODE 9110-04-P